NATIONAL AERONAUTICS AND SPACE ADMINISTRATION

[Notice: 20-075]

Information Collection: NASA Universal Registration and Data Management System

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by October 26, 2020.

ADDRESSES: All comments should be addressed to Travis Kantz, National Aeronautics and Space Administration, 300 E Street SW, Washington, DC 20546-0001 or call 281-792-7885.

FOR FURTHER INFORMATION CONTACT: Requests for additional information or copies of the information collection instrument(s) and instructions should be directed to Roger Kantz, NASA Clearance Officer, NASA Headquarters, 300 E Street SW, JF0000, Washington, DC 20546, at 281-792-7885 or email travis.kantz@nasa.gov.

SUPPLEMENTARY INFORMATION:

I. Abstract

The NASA Universal Registration and Data Management System is a comprehensive tool designed to allow learners (i.e., students and educators) to apply to NASA STEM engagement opportunities (e.g., internships, fellowships, challenges, educator professional development, experiential learning activities, etc.) in a single location. NASA personnel manage the selection of applicants and implementation of engagement opportunities within the Universal Registration and Data Management System. Additionally, NASA can deploy evaluation surveys through the Universal Registration and Data Management System to collect short- and intermediate-outcome data by surveying learners (i.e., students and educators) in NASA STEM engagement activities. Results from evaluation surveys information collected will be used by the NASA Office of STEM Engagement (OSTEM) to establish better defined goals, outcomes, and standards for measuring progress and also to evaluate the outcomes of NASA's STEM Engagement programs and activities. This process of improvement will enhance NASA's strategic planning, performance planning, and performance reporting efforts as required by the GPRA Modernization Act of 2010 and Evidence-Based Policymaking Act of 2018.

II. Methods of Collection

Online/Web-based

III. Data

Title: NASA Universal Registration and Data Management System.

OMB Number:

Type of review: New Collection.

Affected Public: Eligible students or educators, who may voluntarily complete an evaluation survey as a result of applying to or participating in a STEM engagement opportunity (e.g., challenges, educator professional development, experiential learning activities, etc.).

Estimated Number of Respondents: 2,038.

Annual Responses: 81,500.

Estimated Time per Response: 20 minutes.

Estimated Total Annual Burden Hours: 27,167.

Estimated Total Annual Cost: $473,481.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Roger Kantz,
NASA PRA Clearance Officer.

[FR Doc. 2020-20632 Filed 9-23-20; 8:45 am]

BILLING CODE 7510-13-P